ENVIRONMENTAL PROTECTION AGENCY

[EPA-HQ-OAR-2006-0407; FRL-9100-4]

Agency Information Collection Activities; Submission to OMB for Review and Approval; Comment Request; EPA's ENERGY STAR Program in the Commercial and Industrial Sectors; EPA ICR No. 1772.05, OMB Control No. 2060-0347

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before February 4, 2010.

ADDRESSES: Submit your comments, identified by Docket ID No. EPA-HQ-OAR-2006-0407, to: (1) EPA online using http://www.regulations.gov (our preferred method), by e-mail to a-and-r-Docket@epa.gov, or by mail to: EPA Docket Center, Environmental Protection Agency, Air and Radiation Docket, Mailcode: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Mary Susan Bailey, Climate Protection Partnerships Division, Mailcode: 6202J, Environmental Protection Agency, 1200 Pennsylvania Ave., NW., Washington, DC 20460; telephone number: 202-343-9014; fax number: 202-343-2204; e-mail address: bailey.marysusan@epa.gov.

SUPPLEMENTARY INFORMATION: EPA has submitted the following ICR to OMB for review and approval according to the procedures prescribed in 5 CFR 1320.12. On August 11, 2009 (74 FR 40183), EPA sought comments on this ICR pursuant to 5 CFR 1320.8(d). EPA received no comments. Any additional comments on this ICR should be submitted to EPA and OMB within 30 days of this notice.

EPA has established a public docket for this ICR under Docket ID No. EPA-HQ-OAR-2006-0407, which is available for online viewing at http://www.regulations.gov, or in person viewing at the Air and Radiation Docket in the EPA Docket Center (EPA/DC), EPA West Building, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: EPA's ENERGY STAR Program in the Commercial and Industrial Sectors.

ICR Numbers: EPA ICR No. 1772.05, OMB Control No. 2060-0347.

ICR Status: This ICR is currently scheduled to expire on February 28, 2010. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9 and are displayed either by publication in the Federal Register or by other appropriate means, such as on the related collection instrument or form, if applicable. The display of OMB control numbers in certain EPA regulations is consolidated in 40 CFR part 9.

Abstract: EPA created ENERGY STAR as a voluntary program to help businesses and individuals protect the environment through superior energy efficiency. The program focuses on reducing utility-generated emissions by reducing the demand for energy. In 1991, EPA launched the Green Lights Program to encourage corporations, State and local governments, colleges and universities, and other organizations to adopt energy-efficient lighting as a profitable means of preventing pollution and improving lighting quality. Since then, EPA has rolled Green Lights into ENERGY STAR and expanded ENERGY STAR to encompass organization-wide energy performance improvement, such as building technology upgrades, product purchasing initiatives, and employee training. At the same time, EPA has streamlined the reporting requirements of ENERGY STAR and focused on providing incentives for improvements (e.g., ENERGY STAR Awards Program). EPA also makes tools and other resources available over the Web to help the public overcome the barriers to evaluating their energy performance and investing in profitable improvements. In addition, EPA is always looking for ways to simplify its information collections, such as by giving organizations the option of joining ENERGY STAR by completing an online partnership letter or agreement instead of using regular mail. Partnership in ENERGY STAR is voluntary and can be terminated by Partners or EPA at any time. EPA does not expect organizations to join the program unless they expect participation to be cost-effective and otherwise beneficial for them.

In addition, Partners and any other interested party can help EPA promote energy-efficient technologies by evaluating the efficiency of their buildings using EPA's on-line tools (e.g., Portfolio Manager) and applying for recognition.

If a claim of confidential business information (CBI) is asserted, EPA will manage that information in accordance with EPA's provisions on confidentiality.

Burden Statement: The burden for joining the ENERGY STAR Program and related activities is expected to vary depending on the type of Partner. The burden is estimated to be 30 minutes for a Commercial and Industrial Sector Partner to prepare/submit a Partnership Letter, 1 hour for a Service and Product Provider (SPP) to prepare/submit a Partnership Agreement and related documents, and 2.5 hours for an Energy Efficiency Program Sponsor (EEPS) to prepare/submit a Partnership Agreement and a brief plan outlining the key activities it intends to undertake to promote ENERGY STAR. These organizations also may undertake other activities related to their partnership during the year. The burden is estimated to be about 1 hour for a SPP Partner to update its contact information and communicate efforts and successes each year and about 3 hours for an EEPS Partner to update its brief plan and contact information and promote ENERGY STAR each year.

The burden for benchmarking in Portfolio Manager is estimated to vary depending on the type of benchmarking method used. The burden is estimated to be about 2.75 hours per building for manual benchmarks, 1 hour per building for benchmarks using the import tool, and 30 minutes per building for benchmarks using the Automated Benchmarking System. In addition, the burden for using the ENERGY STAR Energy Performance Indicator is estimated to range from 10 to 15 minutes per plant. The burden for tracking a plant's energy performance under the ENERGY STAR Challenge for Industry (e.g., using the ENERGY STAR Energy Tracking Tool) is estimated to be 2.5 hours per plant. These burden estimates include the time for conducting initial set-up, gathering facility and energy data, and entering the data to track energy performance during the year.

The burden for applying to EPA for recognition is estimated to vary depending on the type of recognition. The burden is estimated to range up to 5 hours to apply for the ENERGY STAR. This includes the time for gathering information and completing/submitting the application materials. The burden is estimated to be about 3 hours to apply for the “Designed to Earn the ENERGY STAR.” This includes the time for gathering and entering data into Target Finder and completing/submitting the application materials. The burden is estimated to range up to 17 hours for an organization to apply for an ENERGY STAR Award. This includes the time for preparing and submitting the application materials.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Organizations participating in ENERGY STAR in the Commercial and Industrial Sectors.

Approximate Number of Respondents: 18,000.

Frequency of Response: One-time, on occasion, monthly, annually, and/or periodically, depending on the type of respondent and collection.

Estimated Total Annual Hour Burden: 125,023.

Estimated Total Annual Cost: $14,659,784, including $8,694,520 in labor costs and $5,965,264 in O&M costs. There are no capital/start-up costs to respondents.

Changes in the Estimates: There is an increase of 70,523 hours in the total estimated annual burden hours currently identified in the OMB Inventory of Approved ICR Burdens. Specifically, there is a 3,065-hour decrease due to program changes and a 73,588-hour increase due to adjustments resulting from program growth. This resulted in a net increase of 70,523 hours.

Dated: December 24, 2009.
Richard T. Westlund,
Acting Director, Collection Strategies Division.

[FR Doc. E9-31277 Filed 1-4-10; 8:45 am]

BILLING CODE 6560-50-P